DEPARTMENT OF TRANSPORTATION

Federal Aviation Administration

[Docket No. FAA-2020-1157]

Agency Information Collection Activities: Requests for Comments; Clearance of Renewed Approval of Information Collection: Commercial Space Transportation Licensing Regulations

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on January 13, 2021. The collection involves information used to make a safety determination on proposed modifications and renewals of expendable launch vehicles. The information to be collected will be used to make licensing determinations.

DATES: Written comments should be submitted by November 1, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Charles Huet by email at: Charles.huet@faa.gov; phone: 202-267-7427.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0608.

Title: Commercial Space Transportation Licensing Regulations.

Form Numbers: None.

Type of Review: Renewal of an information collection.

Background: The Federal Register Notice with a 60-day comment period soliciting comments on the following collection of information was published on January 13, 2021 (86 FR 2722). The Commercial Space Launch Act of 1984, 49 U.S.C. App. 2601-2623, as recodified at 49 U.S.C. Subtitle IX, Ch. 701—Commercial Space Launch Activities, 49 U.S.C. 70101-70119 (1994), requires certain data be provided in applying for a license to conduct commercial space launch activities. These data are required to demonstrate to the Federal Aviation Administration (FAA), Associate Administrator for Commercial Space Transportation (AST), that a license applicant's proposed activities meet applicable public safety, national security, and foreign policy interests of the United States.

Respondents: Operators holding a license for expendable launch vehicles at the time of part 450 publication. There are 17 licenses eligible for renewal or modification.

Frequency: On occasion as needed.

Estimated Average Burden per Response: 842.5 Hours.

Estimated Total Annual Burden: 10,110 Hours.

Issued in Washington, DC, on September, 28, 2021.
James Hatt,
Manager, ASZ-200.

[FR Doc. 2021-21394 Filed 9-30-21; 8:45 am]

BILLING CODE 4910-13-P